DEPARTMENT OF TRANSPORTATION

Federal Highway Administration

Environmental Impact Statement: Tarrant County, TX

AGENCY: Federal Highway Administration (FHWA), DOT.

ACTION: Notice of intent.

SUMMARY: The FHWA is issuing this notice to advise the public that we are rescinding the Notice of Intent (NOI) to prepare an environmental impact statement (EIS) for proposed improvements to State Highway 199 (S.H. 199) in Tarrant County, Texas.

FOR FURTHER INFORMATION CONTACT: Patrick A. Bauer, P.E., District Engineer, Federal Highway Administration, 300 East 8th Street, Room 826, Austin, Texas 78701; Telephone: (512) 536-5950.

SUPPLEMENTARY INFORMATION: The FHWA, in cooperation with the Texas Department of Transportation, is rescinding the NOI published in the Federal Register (4910-22) on February 19, 1998, to prepare an EIS for proposed S.H. 199 in Tarrant County, Texas. The NOI is being rescinded because proposed S.H. 121 described as the eastern termini in the NOI has not been constructed and the North Central Texas Council of Governments has removed the proposed S.H. 199 from the current regional mobility plan. Therefore, the scope of S.H. 199 has been revised and separate environmental documents for future improvements to S.H. 199 will be prepared as needed.

(Catalog of Federal Domestic Assistance Program Number 20.205, Highway Planning and Construction. The regulations implementing Executive Order 12372 regarding intergovernmental consultation on Federal programs and activities apply to this program)
Issued on October 10, 2002.
Patrick A. Bauer,
District Engineer, Austin, Texas.

[FR Doc. 02-26655 Filed 10-18-02; 8:45 am]

BILLING CODE 4910-22-M